DEPARTMENT OF ENERGY

Federal Energy Regulatory Commission

[Docket No. CP20-507-000]

Transcontinental Gas Pipe Line Company, LLC; Sea Robin Pipeline Company, LLC; Florida Gas Transmission Company, LLC; Notice of Request for Extension of Time

Take notice that on December 22, 2021, Transcontinental Gas Pipe Line Company, LLC (Transco), 2800 Post Oak Boulevard, Houston, Texas 77056, requested that the Federal Energy Regulatory Commission (Commission) grant an extension of time, until December 31, 2022, in order to complete abandonment activities as authorized in Transco's VR22 to Shore Abandonment Project (Project) in the March 18, 2021 Order Granting Abandonment ¹ (March 18 Order). The March 18 Order, Ordering Paragraph (C) required Transco ² to complete abandonment of the facilities within one year of the order date.

¹ Transcontinental Gas Pipe Line Company, LLC, 174 FERC ¶ 62,169 (2021).

² Transco is the operator of the pipeline facilities proposed to be abandoned.

Transco's request for an extension of time until December 31, 2022 to complete abandonment of the Project facilities, due the timing of the issuance of the Louisiana Department of Natural Resources' Office of Coastal Management—Coastal Use Permit, which is anticipated to be received early 2022. Transco estimates that it will submit a Notice-to-Proceed request during the first quarter of 2022. Transco states that its extension request is also due to the challenging nature of offshore activities. Transco asserts that the extended time will allow flexibility in scheduling around weather events that may delay abandonment activities.

This notice establishes a 15-calendar day intervention and comment period deadline. Any person wishing to comment on Transco's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).³

³ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on all of those extension requests that are uncontested.

⁴ Contested proceedings are those where an intervenor disputes any material issue of the filing. 18 CFR 385.2201(c)(1) (2019).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on January 12, 2022.

Dated: December 28, 2021.
Debbie-Anne A. Reese,
Deputy Secretary.

[FR Doc. 2021-28475 Filed 1-3-22; 8:45 am]

BILLING CODE 6717-01-P